DEPARTMENT OF TRANSPORTATION

Federal Railroad Administration

[Docket Number FRA-2019-0097]

Petition for Waiver of Compliance

Under part 211 of title 49 Code of Federal Regulations (CFR), this document provides the public notice that on November 7, 2019, the Monticello Railway Museum (MRMZ) petitioned the Federal Railroad Administration (FRA) for a waiver of compliance from certain provisions of the Federal railroad safety regulations contained at 49 CFR part 230, Steam Locomotive Inspection and Maintenance Standards. FRA assigned the petition Docket Number FRA-2019-0097.

MRMZ maintains and operates Southern No. 401, a 2-8-0 “Consolidation” type steam locomotive built by the Baldwin Locomotive Works in 1907 for the Southern Railway.

Specifically, MRMZ requests relief from 49 CFR 230.16(a)(2), Fifth annual inspection, of flexible staybolts and caps, due in April 2020. Southern No. 401 typically operates 20 service days each year, one weekend of each month between May and October, pulling tourist trains on a 7.5-mile round trip. The locomotive received a new boiler in 2005 and was placed into service in September 2010. Because the first flue was installed in May 2005, the locomotive will be due for a 1,472 service day inspection (SDI) in May 2021 as set forth by 49 CFR 230.17, One thousand four hundred seventy-two (1472) service day inspection. Southern No. 401 has accrued 100 service days since the previous fifth annual flexible staybolt inspection in 2015. Allowing the relief would add an estimated 20 service days to the locomotive before its next 1,472 SDI.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by February 24, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-00127 Filed 1-8-20; 8:45 am]

BILLING CODE 4910-06-P